DEPARTMENT OF STATE

[Public Notice: 9698]

Executive Order 13224 Designation of Abdiqadir Mumin, aka Sheikh Abdikadir Mumin, aka Sheiky Abdulqadir Mumin, aka Sheikh Abdulqadir Mumin, aka Abdul Qadir Mumin, aka Sheikh Abdiqadir Mumin Yusuf, aka Sheikh Abdulkadir Mumin, aka Abdul Nadir Mumin, aka Abdul Qadr Mu'min as a Specially Designated Global Terrorist

Acting under the authority of and in accordance with section 1(b) of Executive Order 13224 of September 23, 2001, as amended by Executive Order13268 of July 2, 2002, and Executive Order 13284 of January 23, 2003, I hereby determine that the individual known as Abdiqadir Mumin, also known as Sheikh Abdikadir Mumin, also known as Sheiky Abdulqadir Mumin, also known as Sheikh Abdulqadir Mumin, also known as Abdul Qadir Mumin, also known as Sheikh Abdiqadir Mumin Yusuf, also known as Sheikh Abdulkadir Mumin, also known as Abdul Nadir Mumin, also known as Abdul Qadr Mu'min committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: August 11, 2016.
John F. Kerry,
Secretary of State.

[FR Doc. 2016-21088 Filed 8-31-16; 8:45 am]

BILLING CODE 4710-AD-P